DEPARTMENT OF ENERGY
Federal Energy Regulatory Commission
[Docket No. RP04-51-000]
Paiute Pipeline Company; Notice of Technical Conference
January 22, 2004.
In its Order issued December 4, 2003,1
the Commission directed that a technical conference be held to better understand several aspects of Paiute Pipeline Company's November 7, 2003 tariff filing pertaining to segmentation and backhaul transportation.

1 Paiute Pipeline Company, 105 FERC ¶ 61,271 (2003).

A technical conference will be held on Wednesday, February 18, 2004 at 10 a.m., in a room to be designated at the offices of the Federal Energy Regulatory Commission, 888 First Street, NE., Washington, DC 20426.
The conference will focus on the issues raised by the protesters in the proceeding. These issues include: (1) Whether Paiute's proposed tariff provisions would contradict the mandates of Order No. 637, which require pipelines to permit segmentation to the extent operationally feasible; (2) whether the proposal regarding backhaul transactions contains either unjustified or unclear restrictions on service; (3) an explanation as to why the proposal does not include any proposed rates for backhaul service; (4) whether backhaul nominations are available to shippers with interruptible contracts, or whether they are limited to shippers with firm transportation contracts; (5) whether there is an estimated date for when backhaul and segmentation transactions could be offered; and (6) the proposed gas scheduling computer system related to these issues.

All interested persons and staff are permitted to attend. Parties that wish to participate by phone should contact Sharon Dameron at (202) 502-8410 or at sharon.dameron@ferc.gov no later than Wednesday, February 11, 2004.

Magalie R. Salas,
Secretary.

[FR Doc. E4-144 Filed 01-29-04; 8:45 am]
BILLING CODE 6717-01-P